DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of May 2005.

In order for an affirmative determination to be made and a certification of eligibility to apply for directly-impacted (primary) worker adjustment assistance to be issued, each of the group eligibility requirements of Section 222(a) of the Act must be met.

I. Section (a) (2) (A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a) (2) (B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W-56,902; Gonzales Technologies, Paris, TN

TA-W-57,098; Monaco Coach Corp., Beaver Facility, Bend, OR

TA-W-56,894; Thor America, Inc., Middleburg, PA

TA-W-56,903; Milwaukee Sign Company, LLC, Grafton, WI

TA-W-56,978; Rycenga Homes, Inc., Spring Lake, MI

TA-W-56,956; Royal Cord, Inc., Thomaston, GA

TA-W-56,937; Uniboard Fostoria, Inc., Fostoria, OH

TA-W-56,925; Osram Sylvania, Inc., General Lighting, St. Mary's PA

TA-W-56,831; Mueller Copper Tube Products, Inc., subsidiary of Mueller Industries, Inc., Wynne, AR

The investigation revealed that criteria (a)(2)(A)(I.B.)(Sales or production, or both, did not decline) and (a) (2) (B) (II.B) (No shift in production to a foreign country) have not been met.

TA-W-56,987; Hitachi Global Storage Technology, San Jose, CA

The investigation revealed that criterion (a)(2)(A)(I.A) and (a)(2)(B)(II.A) (no employment decline) has not been met.

TA-W-56,976; UFE, Inc., Stillwater, MN

TA-W-56,970; Delta Galil USA, Inc., Williamsport, PA

TA-W-56,995; Crotty Corp., Celina Div., Celina, TN

TA-W-56,725; HCP Packaging USA, Formerly Bridgeport Metal Goods, Hinsdale, NH

The workers firm does not produce an article as required for certification under Section 222 of the Trade Act of 1974.

TA-W-56,885; CTNA Akron Test Center, a subsidiary of Continental Tire North America, Inc., Akron, OH

TA-W-57,100; D&B. Inc., Data Call Center, Greensboro, NC

TA-W-57,162; Gulf Fibers, Inc., Axis, AL

TA-W-56,827; Sara Lee Technical Service, a subsidiary of Sara Lee Global Technical Services, a subsidiary of Sara Lee Corp., Winston-Salem, NC

TA-W-57,055; Integrated Device Technology, Inc., Santa Clara Division, Santa Clara, CA

TA-W-57,065; Galileo International, Div. of Cendant Corp., Centennial, CO

TA-W-56,989; Southwest Marine, Inc., San Pedro Div., Terminal Island, CA

TA-W-56,952; Sierra Health Services, Inc., 111 & 34 Market Place, Baltimore, MD

The investigation revealed that criteria (2) has not been met. The workers firm (or subdivision) is not a supplier or downstream producer to trade-affected companies.

TA-W-56,825; Burns Wood Products, Inc., Granite Falls, NC

Affirmative Determinations for Worker Adjustment Assistance

The following certifications have been issued; the date following the company name and location of each determination references the impact date for all workers of such determination.

The following certifications have been issued. The requirements of (a) (2) (A) (increased imports) of Section 222 have been met.

TA-W-56,913; Modern Case Co., Inc., Ewen, MI: March 24, 2004

TA-W-56,932; The Blind Maker, Inc., Dallas Operations Div., Irvin, TX: March 30, 2004

TA-W-56,916; Addison Shoe Co., a div. of Munro & Company, Inc., Wynne, AR: March 31, 2004

TA-W-56,867; Manual Transmissions of Muncie, LLC, Muncie, IN: March 21, 2004

TA-W-56,909; Scepter Hardwoods, Inc., Sparta, TN: March 31, 2004

TA-W-56,855; General Cable Texas Operations, a subsidiary of General Cable Industries, Inc., Bonham, TX: March 15, 2004

TA-W-56,979; Auburn Foundry, Inc., Plant #2, Auburn, IN: April 7, 2004

TA-W-57,051; Trend Technologies, LLC, Hayward, CA: April 13, 2004

TA-W-56,949; Pemstar, Inc., Taunton, MA: March 11, 2004

TA-W-56,914; Nova Knits, Inc., San Francisco, CA: March 30, 2004

TA-W-57,168; Oxford Automotive, Corporate Office, Troy, MI: May 12, 2004

TA-W-56,924; Lustar Dyeing and Finishing, Inc., Asheville, NC: April 12, 2005

TA-W-57,058; Riddle & Company LLC, including on-site leased workers of Staff Mark and Prime Personnel Resources, Inc., Burlington, NC: April 22, 2004

TA-W-57,133; Sentry Manufacturing Company, including on-site leased workers of Manpower, Chickasha, OK: April 28, 2004

The following certifications have been issued. The requirements of (a) (2) (B) (shift in production) of Section 222 have been met.

TA-W-56,983; C.H. Patrick & Company, Inc., including on-site leased workers of Columbia Staffing, Greenville, SC: April 7, 2004

TA-W-57,109; TRW Automotive, including leased workers of Volt Services, Brighton, MI: May 3, 2004

TA-W-56,877; Don Pluid Logging, Eureka, MT: March 29, 2004

TA-W-56,961; Nortech Systems, Inc., Bemidji, MN: May 15, 2005

TA-W-57,033; Brandon Hosiery, Fort Payne, AL: April 21, 2004

TA-W-56,945 & A; Pentair, Inc., including leased workers of Workforce Personnel and Personnel Plus, Long Beach, CA, Pentair, Inc., including leased workers of Kemco, Adecco Kelly Services and Appleone, Murrieta, CA: April 5, 2004

TA-W-57,011; Eastman Kodak Company, Paper Mill Bldg 319, Div. of Rochester Paper Flow, Rochester, NY: April 13, 2004

TA-W-56,801; ITT Industries, Oscoda, MI: March 21, 2004

TA-W-56,884; Ben Davis Company, San Francisco, CA: March 23, 2004

TA-W-56,901; Chiller Components, Inc., Sutton, MA: April 1, 2004

TA-W-57,006; Ametek, Commercial Motor Div., Racine, WI: May 17, 2005

TA-W-57,027; The Chamberlain Group, Inc., Commercial Products Div., Lake Forest, CA: April 18, 2004

TA-W-57,119; Hafner LLC, a subsidiary of Hafner, Inc, Gordonsville, VA: May 4, 2004

TA-W-57,114; Selkirk, LLC, Logan, OH: May 28, 2005

TA-W-57,071; Makita Corporation of America, including on-site leased workers of Staffing Solutions and Etcon, Buford, GA: April 9, 2005 and Adecco, Dover, DE: April 22, 2004

The following certifications have been issued. The requirement of upstream supplier to a trade certified primary firm has been met.

TA-W-57,021; Plastic Moldings Company, LLC, Cincinnati Plant, including leased workers of Excel Staffing, Cincinnati, OH: April 12, 2004

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

The Department as determined that criterion (2) of Section 246 has not been met. Workers at the firm possess skills that are easily transferable.

TA-W-57,114; Selkirk, LLC, Logan, OH

TA-W-57,071; Makita Corporation of America, including on-site leased workers of Staffing Solutions and Etcon, Buford, GA

TA-W-56,932; The Blind Maker, Inc., Dallas Operations Div., Irving, TX:

TA-W-56,867; Manual Transmissions of Muncie, LLC, Muncie, IN

TA-W-57,133; Sentry Manufacturing Company, including on-site leased workers of Manpower, Chickasha, OK

The Department as determined that criterion (1) of Section 246 has not been met. Workers at the firm are 50 years of age or older.

None

Since the workers are denied eligibility to apply for TAA, the workers cannot be certified eligible for ATAA.

TA-W-56,902; Gonzales Technologies, Paris, TN

TA-W-57,098; Monaco Coach Corp., Beaver Facility, Bend, OR

TA-W-56,894; Thor America, Inc., Middleburg, PA

TA-W-56,903; Milwaukee Sign Company, LLC, Grafton, WI

TA-W-56,978; Rycenga Homes, Inc., Spring Lake, MI

TA-W-56,956; Royal Cord, Inc., Thomaston, GA

TA-W-56,937; Uniboard Fostoria, Inc., Fostoria, OH

TA-W-56,925; Osram Sylvania, Inc., General Lighting, St. Mary's, PA

TA-W-56,831; Mueller Copper Tube Products, Inc., subsidiary of Mueller Industries, Inc., Wynne, AR

TA-W-56,987; Hitachi Global Storage Technology, San Jose, CA

TA-W-56,976; UFE, Inc., Stillwater, MN

TA-W-56,970; Delta Galil USA, Inc., Williamsport, PA

TA-W-56,9895; Crotty Corp., Celina Div., Celina, TN

TA-W-56,725; HCP Packaging USA, formerly Bridgeport Metal Goods, Hinsdale, NH

TA-W-56,885; CTNA Akron Test Center, a subsidiary of Continental Tire North America, Inc., Akron, OH

TA-W-57,162; Gulf Fibers, Inc., Axis, AL

TA-W-56,827; Sara Lee Technical Service, a subsidiary of Sara Lee Global Technical Services, a subsidiary of Sara Lee Corp., Winston-Salem, NC

TA-W-57,055; Integrated Device Technology, Inc., Santa Clara Division, Santa Clara, CA

TA-W-57,065; Galileo International, div. of Cendant Corp., Centennial, CO

TA-W-56,989; Southwest Marine, Inc., San Pedro Div., Terminal Island, CA

TA-W-56,952; Sierra Health Services, Inc., 111 & 34 Market Place, Baltimore, MD

TA-W-56,825; Burns Wood Products, Inc., Granite Falls, NC

Affirmative Determinations for Alternative Trade Ajdustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-56,913; Modern Case Company, Inc., Ewen, MI: March 24, 2004

TA-W-56,916; Addison Shoe Company, a div. of Munro & Company, Inc., Wynne, AR: March 31, 2004

TA-W-56,909; Scepter Hardwoods, Inc., Sparta, TN: March 31, 2004

TA-W-56,855; General Cable Texas Operations, a subsidiary of General Cable Industries, Inc., Bonham, TX: March 15, 2004

TA-W-56,979; Auburn Foundry, Inc., Plant #2, Auburn, IN: April 7, 2004

TA-W-57,051; Trend Technologies, LLC, Hayward, CA: April 13, 2004

TA-W-56,914; Nova Knits, Inc., San Francisco, CA: March 30, 2004

TA-W-56,949; Pemstar, Inc., Taunton, MA: March 11, 2004

TA-W-57,168; Oxford Automotive, Corporate Office, Troy, MI: May 12, 2004

TA-W-56,924; Lustar Dyeing and Finishing, Inc., Asheville, NC: April 6, 2004

TA-W-57,058; Riddle & Company LLC, including on-site leased workers of Staff Mark and Prime Personnel Resources, Inc., Burlington, NC: April 22, 2004

TA-W-56,983; C.H. Patrick & Company, Inc., including on-site leased workers of Columbia Staffing, Greenville, SC: April 7, 2004

TA-W-57,109; TRW Automotive, including leased workers of Volt Services, Brighton, MI: May 3, 2004

TA-W-56,877; Don Pluid Logging, Eureka, MT: March 9, 2004

TA-W-56,961; Nortech Systems, Inc., Bemidji, MN: May 15, 2005

TA-W-57,033; Brandon Hosiery, Fort Payne, AL: April 21, 2004

TA-W-56,945 & A; Pentair, Inc., including leased workers of Workforce Personnel and Personnel Plus, Long Beach, CA and Pentair, Inc., including leased workers of Kimco, Adecco, Kelly Services and Appleone, Murrieta, CA: April 5, 2004

TA-W-57,011; Eastman Kodak Co., Paper Mill Bldg 319, Div. of Rochester Paper Flow, Rochester, NY: April 13, 2004

TA-W-56,884; Ben Davis Company, San Francisco, CA: March 23, 2004

TA-W-56,901; Chiller Components, Inc., Sutton, MA: April 1, 2004

TA-W-57,006; Ametek, Commercial Motor Div., Racine, WI: May 17, 2005

TA-W-57,027; The Chamberlain Group, Inc., Commercial Products Div., Lake Forest, CA: April 18, 2004

TA-W-57,119; Hafner LLC, a subsidiary of Hafner, Inc., Gordonsville, VA: May 4, 2004. Electric, including leased workers of Adecco Personnel, Asheville, NC: May 9, 2005

I hereby certify that the aforementioned determinations were issued during the month of May 2005 Copies of these determinations are available for inspection in Room C-5311, U.S. Department of Labor, 200 Constitution Avenue, NW., Washington, DC 20210 during normal business hours or will be mailed to persons who write to the above address.

Dated: June 3, 2005.
Timothy Sullivan,
Director, Division of Trade Adjustment Assistance.

[FR Doc. E5-3037 Filed 6-10-05; 8:45 am]

BILLING CODE 4510-30-P